DEPARTMENT OF TRANSPORTATION

Federal Aviation Administration

14 CFR Part 97

[Docket No. 31288; Amdt. No. 3884]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective December 23, 2019. The compliance date for each SIAP, associated Takeoff Minimums, and ODP is specified in the amendatory provisions.

The incorporation by reference of certain publications listed in the regulations is approved by the Director of the Federal Register as of December 23, 2019.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (Air).

Issued in Washington, DC, on December 13, 2019.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
30-Jan-20 | WI | Kenosha | Kenosha Rgnl | 9/0071 | 11/21/19 | RNAV (GPS) RWY 25R, Orig-A.
30-Jan-20 | WI | Kenosha | Kenosha Rgnl | 9/0095 | 11/21/19 | RNAV (GPS) RWY 33, Orig-A.
30-Jan-20 | AL | Clayton | Clayton Muni | 9/0140 | 11/20/19 | RNAV (GPS) RWY 9, Orig-C.
30-Jan-20 | SC | Charleston | Charleston AFB/Intl | 9/0142 | 11/20/19 | RNAV (RNP) Z RWY 21, Orig-B.
30-Jan-20 | WA | Port Angeles | William R Fairchild Intl | 9/0212 | 11/20/19 | RNAV (GPS) RWY 26, Amdt 1B.
30-Jan-20 | CO | Fort Collins/Loveland | Northern Colorado Rgnl | 9/0217 | 11/20/19 | ILS OR LOC RWY 33, Amdt 6C.
30-Jan-20 | CO | Fort Collins/Loveland | Northern Colorado Rgnl | 9/0218 | 11/20/19 | VOR-A, Amdt 7A.
30-Jan-20 | KS | Herington | Herington Rgnl | 9/0239 | 11/21/19 | NDB RWY 17, Amdt 2A.
30-Jan-20 | KS | Herington | Herington Rgnl | 9/0280 | 11/21/19 | NDB RWY 35, Amdt 2A.
30-Jan-20 | WI | Solon Springs | Solon Springs Muni | 9/0288 | 11/21/19 | RNAV (GPS) RWY 19, Orig-B.
30-Jan-20 | OH | Ravenna | Portage County | 9/0314 | 11/20/19 | VOR-A, Amdt 6A.
30-Jan-20 | NH | Concord | Concord Muni | 9/0319 | 11/20/19 | ILS OR LOC RWY 35, Amdt 1C.
30-Jan-20 | WA | Pullman/Moscow | Pullman/Moscow Rgnl | 9/0473 | 11/20/19 | RNAV (GPS) RWY 5, Amdt 3.
30-Jan-20 | FL | Miami | Miami Intl | 9/0475 | 11/20/19 | RNAV (GPS) RWY 8L, Amdt 2A.
30-Jan-20 | FL | Punta Gorda | Punta Gorda | 9/0521 | 12/3/19 | ILS OR LOC RWY 4, Orig.
30-Jan-20 | FL | Punta Gorda | Punta Gorda | 9/0522 | 12/3/19 | RNAV (GPS) RWY 4, Amdt 2.
30-Jan-20 | FL | Punta Gorda | Punta Gorda | 9/0523 | 12/3/19 | RNAV (GPS) RWY 15, Amdt 1.
30-Jan-20 | FL | Punta Gorda | Punta Gorda | 9/0529 | 12/3/19 | RNAV (GPS) RWY 22, Amdt 2.
30-Jan-20 | OH | Port Clinton | Erie-Ottawa Intl | 9/0753 | 12/3/19 | RNAV (GPS) RWY 9, Amdt 1A.
30-Jan-20 | MI | Hastings | Hastings | 9/0868 | 12/10/19 | RNAV (GPS) RWY 30, Amdt 2.
30-Jan-20 | OH | Port Clinton | Erie-Ottawa Intl | 9/1073 | 11/20/19 | RNAV (GPS) RWY 27, Amdt 1B.
30-Jan-20 | IL | Galesburg | Galesburg Muni | 9/1117 | 11/20/19 | ILS OR LOC/DME RWY 3, Amdt 10A.
30-Jan-20 | TX | Robstown | Nueces County | 9/1118 | 11/20/19 | Takeoff Minimums and Obstacle DP, Amdt 1.
30-Jan-20 | AZ | Casa Grande | Casa Grande Muni | 9/1564 | 11/20/19 | VOR RWY 5, AMDT 4E.
30-Jan-20 | PA | Waynesburg | Greene County | 9/1979 | 11/21/19 | RNAV (GPS) RWY 27, Orig-A.
30-Jan-20 | IA | Winterset | Winterset Muni | 9/2305 | 11/20/19 | RNAV (GPS) RWY 32, Amdt 1.
30-Jan-20 | TX | Big Lake | Reagan County | 9/2482 | 12/10/19 | RNAV (GPS) RWY 16, Orig.
30-Jan-20 | IN | Peru | Peru Muni | 9/2483 | 12/10/19 | RNAV (GPS) RWY 1, Orig-B.
30-Jan-20 | IN | Peru | Peru Muni | 9/2484 | 12/10/19 | VOR RWY 1, Amdt 8D.
30-Jan-20 | IN | Peru | Peru Muni | 9/2485 | 12/10/19 | RNAV (GPS) RWY 19, Amdt 1A.
30-Jan-20 | CA | San Diego/El Cajon | Gillespie Field | 9/3264 | 11/20/19 | RNAV (GPS) RWY 9L, Orig-A.
30-Jan-20 | MI | Grand Rapids | Gerald R Ford Intl | 9/3347 | 11/20/19 | VOR RWY 17, Orig-E.
30-Jan-20 | MA | Vineyard Haven | Martha's Vineyard | 9/3403 | 11/20/19 | RNAV (GPS) RWY 6, Amdt 1A.
30-Jan-20 | MA | Vineyard Haven | Martha's Vineyard | 9/3405 | 11/20/19 | RNAV (GPS) RWY 33, Orig-A.
30-Jan-20 | AL | Alexander City | Thomas C Russell Fld | 9/3952 | 11/20/19 | RNAV (GPS) RWY 18, Amdt 2.
30-Jan-20 | MD | Frederick | Frederick Muni | 9/3957 | 11/20/19 | RNAV (GPS) Y RWY 23, Amdt 1D.
30-Jan-20 | MD | Frederick | Frederick Muni | 9/3959 | 11/20/19 | RNAV (GPS) Z RWY 23, Orig-F.
30-Jan-20 | KS | Phillipsburg | Phillipsburg Muni | 9/3963 | 11/21/19 | RNAV (GPS) RWY 13, Amdt 2.
30-Jan-20 | KS | Phillipsburg | Phillipsburg Muni | 9/3964 | 11/21/19 | RNAV (GPS) RWY 31, Amdt 2.
30-Jan-20 | GA | Cochran | Cochran | 9/3987 | 11/20/19 | VOR/DME RWY 5, Amdt 6A.
30-Jan-20 | GA | Cochran | Cochran | 9/3988 | 11/20/19 | RNAV (GPS) RWY 11, Amdt 1B.
30-Jan-20 | MT | Twin Bridges | Twin Bridges | 9/3989 | 11/20/19 | RNAV (GPS) RWY 17, Orig-A.
30-Jan-20 | MT | Twin Bridges | Twin Bridges | 9/3990 | 11/20/19 | RNAV (GPS) RWY 35, Orig-A.
30-Jan-20 | AK | Barrow | Wiley Post-Will Rogers Memorial | 9/4063 | 11/20/19 | VOR RWY 25, Amdt 1.
30-Jan-20 | IL | Galesburg | Galesburg Muni | 9/4182 | 11/20/19 | VOR RWY 21, Amdt 7B.
30-Jan-20 | OH | Dayton | Dayton-Wright Brothers | 9/4743 | 12/10/19 | RNAV (GPS) RWY 2, Orig.
30-Jan-20 | OH | Dayton | Dayton-Wright Brothers | 9/4744 | 12/10/19 | RNAV (GPS) RWY 20, Orig-A.
30-Jan-20 | WV | Moundsville | Marshall County | 9/5072 | 11/20/19 | RNAV (GPS) RWY 24, Orig-B.
30-Jan-20 | CA | Novato | Gnoss Field | 9/5311 | 11/20/19 | GPS RWY 13, Orig.
30-Jan-20 | NE | Scottsbluff | Western Nebraska Rgnl/William B Heilig Field | 9/5333 | 11/20/19 | ILS OR LOC/DME RWY 12, Orig-A.
30-Jan-20 | NE | Scottsbluff | Western Nebraska Rgnl/William B Heilig Field | 9/5334 | 11/20/19 | RNAV (GPS) RWY 12, Amdt 1.
30-Jan-20 | NE | Scottsbluff | Western Nebraska Rgnl/William B Heilig Field | 9/5335 | 11/20/19 | RNAV (GPS) RWY 23, Orig.
30-Jan-20 | NE | Scottsbluff | Western Nebraska Rgnl/William B Heilig Field | 9/5336 | 11/20/19 | RNAV (GPS) RWY 30, Amdt 1A.
30-Jan-20 | NE | Scottsbluff | Western Nebraska Rgnl/William B Heilig Field | 9/5337 | 11/20/19 | VOR/DME RWY 5, Amdt 5.
30-Jan-20 | NE | Scottsbluff | Western Nebraska Rgnl/William B Heilig Field | 9/5339 | 11/20/19 | VOR OR TACAN RWY 23, Amdt 12.
30-Jan-20 | ID | Burley | Burley Muni | 9/5402 | 11/20/19 | RNAV (GPS) RWY 20, Orig-C.
30-Jan-20 | MN | Granite Falls | Granite Falls Muni/Lenzen-Roe-Fagen Memorial Field | 9/5448 | 11/20/19 | VOR/DME RWY 33, Orig-B.
30-Jan-20 | TX | Austin | Austin Executive | 9/5479 | 11/22/19 | RNAV (GPS) RWY 13, Orig.
30-Jan-20 | KS | Goodland | Renner Fld/Goodland Muni/ | 9/5496 | 11/21/19 | ILS OR LOC RWY 30, Amdt 2B.
30-Jan-20 | KS | Goodland | Renner Fld/Goodland Muni/ | 9/5497 | 11/21/19 | RNAV (GPS) RWY 23, Amdt 1B.
30-Jan-20 | KS | Goodland | Renner Fld/Goodland Muni/ | 9/5498 | 11/21/19 | RNAV (GPS) RWY 30, Amdt 1B.
30-Jan-20 | KS | Goodland | Renner Fld/Goodland Muni/ | 9/5499 | 11/21/19 | VOR RWY 30, Amdt 9B.
30-Jan-20 | MO | Cuba | Cuba Muni | 9/5528 | 11/20/19 | RNAV (GPS) RWY 18, Orig-B.
30-Jan-20 | FL | Milton | Peter Prince Field | 9/5529 | 11/20/19 | RNAV (GPS) RWY 36, Amdt 1B.
30-Jan-20 | TX | Taylor | Taylor Muni | 9/5949 | 11/20/19 | RNAV (GPS) RWY 17, Orig-A.
30-Jan-20 | NY | Oneonta | Oneonta Muni | 9/6042 | 11/20/19 | RNAV (GPS) RWY 6, Orig-A.
30-Jan-20 | VA | Richmond | Richmond Intl | 9/6123 | 11/20/19 | RNAV (RNP) Y RWY 20, Orig-B.
30-Jan-20 | VA | Richmond | Richmond Intl | 9/6124 | 11/20/19 | RNAV (RNP) Y RWY 34, Orig-C.
30-Jan-20 | VA | Richmond | Richmond Intl | 9/6125 | 11/20/19 | RNAV (GPS) Z RWY 34, Amdt 1D.
30-Jan-20 | VA | Richmond | Richmond Intl | 9/6126 | 11/20/19 | VOR RWY 2, Amdt 6A.
30-Jan-20 | VA | Richmond | Richmond Intl | 9/6127 | 11/20/19 | VOR RWY 16, Amdt 27B.
30-Jan-20 | VA | Richmond | Richmond Intl | 9/6129 | 11/20/19 | VOR RWY 34, Amdt 23B.
30-Jan-20 | CO | Monte Vista | Monte Vista Muni | 9/6133 | 11/20/19 | VOR/DME-A, Amdt 3.
30-Jan-20 | WI | Fond Du Lac | Fond Du Lac County | 9/6157 | 11/20/19 | VOR/DME RWY 36, Amdt 6C.
30-Jan-20 | VA | Lawrenceville | Lawrenceville/Brunswick Muni | 9/6240 | 11/20/19 | RNAV (GPS)-A, Orig.
30-Jan-20 | VA | Lawrenceville | Lawrenceville/Brunswick Muni | 9/6241 | 11/20/19 | Takeoff Minimums and Obstacle DP, Orig.
30-Jan-20 | VA | Lawrenceville | Lawrenceville/Brunswick Muni | 9/6242 | 11/20/19 | RNAV (GPS)-B, Orig.
30-Jan-20 | OK | Wagoner | Hefner-Easley | 9/6887 | 11/20/19 | RNAV (GPS) RWY 18, Amdt 1.
30-Jan-20 | NV | Las Vegas | North Las Vegas | 9/6985 | 11/20/19 | ILS OR LOC RWY 12L, Orig-C.
30-Jan-20 | AK | St Paul Island | St Paul Island | 9/7143 | 11/20/19 | ILS OR LOC RWY 36, Amdt 4.
30-Jan-20 | AK | St Paul Island | St Paul Island | 9/7144 | 11/20/19 | RNAV (GPS) RWY 36, Amdt 1.
30-Jan-20 | AK | St Paul Island | St Paul Island | 9/7146 | 11/20/19 | LOC/DME BC RWY 18, Amdt 4B.
30-Jan-20 | AK | St Paul Island | St Paul Island | 9/7152 | 11/20/19 | RNAV (GPS) RWY 18, Amdt 2B.
30-Jan-20 | KY | Springfield | Lebanon Springfield-George Hoerter Field | 9/7340 | 11/25/19 | RNAV (GPS) RWY 11, Amdt 1.
30-Jan-20 | FL | Panama City | Northwest Florida Beaches Intl | 9/7435 | 11/20/19 | ILS OR LOC RWY 16, ILS RWY 16 (SA CAT I), ILS RWY 16 (SA CAT II), Amdt 3.
30-Jan-20 | FL | Merritt Island | Merritt Island | 9/7572 | 11/20/19 | RNAV (GPS) RWY 11, Amdt 1C.
30-Jan-20 | TX | Kerrville | Kerrville Muni/Louis Schreiner Field | 9/7901 | 11/26/19 | VOR-A, Amdt 3A.
30-Jan-20 | ND | Fargo | Hector Intl | 9/7935 | 11/26/19 | ILS OR LOC RWY 18, Orig-D.
30-Jan-20 | PA | Meadville | Port Meadville | 9/8260 | 11/20/19 | RNAV (GPS) RWY 25, Amdt 1E.
30-Jan-20 | LA | Lake Charles | Chennault Intl | 9/8269 | 11/20/19 | RNAV (GPS) RWY 33, Amdt 1.
30-Jan-20 | CO | Telluride | Telluride Rgnl | 9/8368 | 11/20/19 | VOR/DME-A, Amdt 1.
30-Jan-20 | WY | Rock Springs | Southwest Wyoming Rgnl | 9/8369 | 11/20/19 | VOR/DME RWY 27, Amdt 2A.
30-Jan-20 | WY | Rock Springs | Southwest Wyoming Rgnl | 9/8374 | 11/20/19 | VOR RWY 9, Amdt 3A.
30-Jan-20 | MI | Grand Haven | Grand Haven Memorial Airpark | 9/8420 | 11/20/19 | RNAV (GPS) RWY 9, Orig.
30-Jan-20 | AR | Mena | Mena Intermountain Muni | 9/8444 | 11/26/19 | ILS OR LOC RWY 27, Amdt 1B.
30-Jan-20 | AR | Mena | Mena Intermountain Muni | 9/8445 | 11/26/19 | NDB RWY 27, Amdt 1A.
30-Jan-20 | MO | Brookfield | North Central Missouri Rgnl | 9/8451 | 12/10/19 | RNAV (GPS) RWY 18, Orig.
30-Jan-20 | MO | Brookfield | North Central Missouri Rgnl | 9/8452 | 12/10/19 | RNAV (GPS) RWY 36, Amdt 2A.
30-Jan-20 | OR | Baker City | Baker City Muni | 9/8453 | 11/26/19 | VOR-A, Amdt 1B.
30-Jan-20 | OR | Baker City | Baker City Muni | 9/8454 | 11/26/19 | VOR/DME RWY 13, Amdt 11D.
30-Jan-20 | CA | Watsonville | Watsonville Muni | 9/8923 | 11/20/19 | VOR-A, Amdt 1A.
30-Jan-20 | CA | Watsonville | Watsonville Muni | 9/8924 | 11/20/19 | LOC RWY 2, Amdt 4B.
30-Jan-20 | FL | Clewiston | Airglades | 9/8940 | 11/20/19 | RNAV (GPS) RWY 13, Orig-A.
30-Jan-20 | FL | Clewiston | Airglades | 9/8968 | 11/20/19 | RNAV (GPS) RWY 31, Orig.
30-Jan-20 | ME | Fryeburg | Eastern Slopes Rgnl | 9/8981 | 11/26/19 | RNAV (GPS) RWY 32, Amdt 1A.
30-Jan-20 | CA | Los Angeles | Whiteman | 9/9009 | 11/26/19 | RNAV (GPS) RWY 12, Orig.
30-Jan-20 | MN | Duluth | Duluth Intl | 9/9022 | 11/26/19 | RADAR-1, Orig.
30-Jan-20 | KS | Olathe | New Century Aircenter | 9/9169 | 11/26/19 | RNAV (GPS) RWY 18, Amdt 2.
30-Jan-20 | KS | Olathe | New Century Aircenter | 9/9171 | 11/26/19 | RNAV (GPS) RWY 36, Amdt 2.
30-Jan-20 | TX | Hondo | South Texas Rgnl At Hondo | 9/9193 | 11/26/19 | NDB RWY 35R, Amdt 5.
30-Jan-20 | TX | Hondo | South Texas Rgnl At Hondo | 9/9194 | 11/26/19 | RNAV (GPS) RWY 35R, Orig.
30-Jan-20 | FL | Sarasota/Bradenton | Sarasota/Bradenton Intl | 9/9332 | 11/27/19 | RNAV (GPS) RWY 4, Amdt 2C.
30-Jan-20 | FL | Sarasota/Bradenton | Sarasota/Bradenton Intl | 9/9335 | 11/27/19 | RNAV (GPS) RWY 22, Amdt 2B.
30-Jan-20 | FL | Sarasota/Bradenton | Sarasota/Bradenton Intl | 9/9336 | 11/27/19 | ILS OR LOC RWY 14, Amdt 6B.
30-Jan-20 | FL | Sarasota/Bradenton | Sarasota/Bradenton Intl | 9/9337 | 11/27/19 | ILS OR LOC RWY 32, Amdt 8B.
30-Jan-20 | FL | Sarasota/Bradenton | Sarasota/Bradenton Intl | 9/9338 | 11/27/19 | RNAV (GPS) RWY 14, Amdt 3B.
30-Jan-20 | FL | Sarasota/Bradenton | Sarasota/Bradenton Intl | 9/9339 | 11/27/19 | RNAV (GPS) RWY 32, Amdt 3B.
30-Jan-20 | FL | Sarasota/Bradenton | Sarasota/Bradenton Intl | 9/9341 | 11/27/19 | VOR RWY 14, Amdt 18B.
30-Jan-20 | IN | Bedford | Virgil I Grissom Muni | 9/9770 | 11/20/19 | VOR/DME RWY 13, Amdt 10B.
30-Jan-20 | MD | Baltimore | Baltimore/Washington Intl Thurgood Marshall | 9/9974 | 11/20/19 | RNAV (RNP) Z RWY 33L, Amdt 3.
30-Jan-20 | MD | Baltimore | Baltimore/Washington Intl Thurgood Marshall | 9/9975 | 11/20/19 | ILS OR LOC RWY 33L, ILS RWY 33L (SA CAT I & II), Amdt 12.

[FR Doc. 2019-27528 Filed 12-20-19; 8:45 am]

BILLING CODE 4910-13-P